OFFICE OF PERSONNEL MANAGEMENT

Submission for Review: 3206-0167, Financial Resources Questionnaire (RI 34-1, RI 34-17, and RI 34-18) and Notice of Amount Due Because of Annuity Overpayment (RI 34-3, RI 34-19, and RI 34-20)

AGENCY: Office of Personnel Management.

ACTION: 60-Day notice and request for comments.

SUMMARY: Office of Personnel Management (OPM) offers the general public and other federal agencies the opportunity to comment on the reinstatement of an expired information collection: Financial Resources Questionnaire (RI 34-1, RI 34-17, and RI 34-18) and Notice of Amount Due Because Of Annuity Overpayment (RI 34-3, RI 34-19, and RI 34-20).

DATES: Comments are encouraged and will be accepted until May 27, 2025.

ADDRESSES: You may submit comments, identified by docket number and/or Regulatory Information Number (RIN) and title, by the following method:

—Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: A copy of this ICR with applicable supporting documentation may be obtained by contacting the Retirement Services Publications Team, Office of Personnel Management, 1900 E Street NW, Room 3316-L, Washington, DC 20415, Attention: Cyrus S. Benson, or via electronic mail at RSPublicationsTeam@opm.gov or fax at (202) 606-0910 or via telephone at (202) 936-0401.

SUPPLEMENTARY INFORMATION: As required by the Paperwork Reduction Act of 1995, as amended, (44 U.S.C. chapter 35), OPM is soliciting comments for this collection (OMB No. 3206-0167). RI 34-1 (Financial Resources Questionnaire) collects detailed financial information for use by OPM to determine whether to agree to a waiver, compromise, or adjustment of the collection of erroneous payments from the Civil Service Retirement and Disability Fund. Similarly, RI 34-17 (Financial Resources Questionnaire—Federal Employees' Group Life Insurance Premiums Underpaid) and RI 34-18 (Financial Resources Questionnaire—Federal Employees Health Benefits Premiums Underpaid) collect detailed financial information for use by OPM to determine whether to agree to a waiver, compromise, or adjustment of the collection of an underpayment of Federal Employees' Group Life Insurance (FEGLI) or Federal Employees Health Benefits (FEHB) premiums.

RI 34-3 (Notice of Amount Due Because Of Annuity Overpayment), RI 34-19 (Notice of Amount Due Because of FEGLI Premium Underpayment), and RI 34-20 (Notice of Amount Due Because of FEHB Premium Underpayment) inform the annuitant about the over- or under- payment and collect information from the annuitant about how repayment will be made.

OPM is particularly interested in public comment addressing the following issues:

1. Whether this collection is necessary to the proper functions of OPM;

2. Whether this information will be processed and used in a timely manner;

3. The accuracy of the agency's estimate of the burden of this collection;

4. Ways in which OPM might enhance the quality, utility, and clarity of the information to be collected; and

5. Ways in which OPM might minimize the burden of this collection on the respondents, including through the use of information technology.

Analysis

Agency: Retirement Operations, Retirement Services, Office of Personnel Management.

Title: Financial Resources Questionnaire/Notice of Debt Due Because of Annuity Overpayment or Premium Underpayment.

OMB Number: 3206-0167.

Frequency: On occasion.

Affected Public: Individuals or Households.

Number of Respondents: 2,081.

Estimated Time per Respondent: 60 minutes.

Total Burden Hours: 2,081 hours.

U.S. Office of Personnel Management.
Jerson Matias,
Federal Register Liaison.

[FR Doc. 2025-05161 Filed 3-26-25; 8:45 am]

BILLING CODE 6325-38-P